DEPARTMENT OF ENERGY

Federal Energy Regulatory Commission

[Docket No. CP03-299-000]

ANR Pipeline Company; Notice of Application

May 23, 2003.

On April 16, 2003, ANR Pipeline Company (ANR), filed in Docket No. CP03-299-000, an application pursuant to section 7(b) of the Natural Gas Act (NGA), as amended, and part 157 of the regulations of the Federal Energy Regulatory Commission (Commission), for authorization to abandon the C.I. Richards A-1 natural gas storage well (Well) and related facilities, located in the Loreed Storage Field, in Osceola County, Michigan.

ANR proposes to abandon the Well due to its chronic poor performance. ANR states that the Well will be sealed and removed along with the well-head, well connection to the gathering system, aboveground piping, concrete piers, and tank. ANR also states that the 4-inch brine pipeline and the 6-inch natural gas pipeline associated with the Well will be abandoned in place and remain connected to the main header. ANR notes that the proposed abandonment will not adversely affect the service of the field, nor the environment.

Any questions concerning this application may be directed Kathy Cash, Certificates and Regulatory Compliance, ANR Pipeline Company, Nine E. Greenway Plaza, Houston, Texas 77046, phone: (832) 676-3102, e-mail: kathy.cash@elpaso.com.

This filing is available for review at the Commission or may be viewed on the Commission's Web site at http://www.ferc.gov using the “FERRIS” link. Enter the docket number excluding the last three digits in the docket number field to access the document. For assistance, please contact FERC Online Support at FERCOnlineSupport@ferc.gov or toll-free at (866) 208-3676, or for TTY, contact (202) 502-8659.

There are two ways to become involved in the Commission's review of this project. First, any person wishing to obtain legal status by becoming a party to the proceedings for this project should file with the Federal Energy Regulatory Commission, 888 First Street, NE., Washington, DC 20426, a motion to intervene in accordance with the requirements of the Commission's Rules of Practice and Procedure (18 CFR 385.214 or 385.211) and the Regulations under the NGA (18 CFR 157.10) by the comment date, below. A person obtaining party status will be placed on the service list maintained by the Secretary of the Commission and will receive copies of all documents filed by the applicant and by all other parties. A party must submit 14 copies of filings made with the Commission and must mail a copy to the applicant and to every other party in the proceeding. Only parties to the proceeding can ask for court review of Commission orders in the proceeding.

However, a person does not have to intervene in order to have comments considered. The second way to participate is by filing with the Secretary of the Commission, as soon as possible, an original and two copies of comments in support of or in opposition to this project. The Commission will consider these comments in determining the appropriate action to be taken, but the filing of a comment alone will not serve to make the filer a party to the proceeding. The Commission's rules require that persons filing comments in opposition to the project provide copies of their protests only to the party or parties directly involved in the protest.

Protests and interventions may be filed electronically via the Internet in lieu of paper; see 18 CFR 385.2001(a)(1)(iii) and the instructions on the Commission's Web site under the “e-Filing” link. The Commission strongly encourages electronic filings.

Comment Date: June 13, 2003.

Magalie R. Salas,
Secretary.

[FR Doc. 03-13614 Filed 5-30-03; 8:45 am]

BILLING CODE 6717-01-P